DEPARTMENT OF TRANSPORTATION

Federal Aviation Administration

14 CFR Part 39

[Docket No. FAA-2005-22872; Directorate Identifier 2005-NM-198-AD; Amendment 39-14490; AD 2006-04-09]

RIN 2120-AA64

Airworthiness Directives; Bombardier Model CL-600-2C10 (Regional Jet Series 700, 701, & 702), CL-600-2D15 (Regional Jet Series 705), and CL-600-2D24 (Regional Jet Series 900) Airplanes

AGENCY: Federal Aviation Administration (FAA), Department of Transportation (DOT).

ACTION: Final rule.

SUMMARY: The FAA is adopting a new airworthiness directive (AD) for certain Bombardier Model CL-600-2C10 (Regional Jet Series 700, 701, & 702), CL-600-2D15 (Regional Jet Series 705), and CL-600-2D24 (Regional Jet Series 900) airplanes. This AD requires replacing the Camloc fasteners on the sidewall of the center pedestal. This AD results from reports of the Camloc fasteners on the sidewall of the center pedestal disengaging and interfering with an inboard rudder pedal. We are issuing this AD to prevent these fasteners from disengaging and interfering with an inboard rudder pedal, which could reduce directional controllability of the airplane.

DATES: This AD becomes effective March 24, 2006.

The Director of the Federal Register approved the incorporation by reference of a certain publication listed in the AD as of March 24, 2006.

ADDRESSES: You may examine the AD docket on the Internet at http://dms.dot.gov or in person at the Docket Management Facility, U.S. Department of Transportation, 400 Seventh Street SW., Nassif Building, room PL-401, Washington, DC.

Contact Bombardier, Inc., Canadair, Aerospace Group, P.O. Box 6087, Station Centre-ville, Montreal, Quebec H3C 3G9, Canada, for service information identified in this AD.

FOR FURTHER INFORMATION CONTACT: Daniel Parrillo, Aerospace Engineer, Systems and Flight Test Branch, ANE-172, FAA, New York Aircraft Certification Office, 1600 Stewart Avenue, suite 410, Westbury, New York 11590; telephone (516) 228-7305; fax (516) 794-5531.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Bombardier Model CL-600-2C10 (Regional Jet Series 700, 701, & 702), CL-600-2D15 (Regional Jet Series 705), and CL-600-2D24 (Regional Jet Series 900) airplanes. That NPRM was published in the Federal Register on November 9, 2005 (70 FR 67946). That NPRM proposed to require replacing the Camloc fasteners on the sidewall of the center pedestal.

Comments

We provided the public the opportunity to participate in the development of this AD. We have considered the single comment received.

Request To Allow Use of Alternative Parts

The commenter agrees with the proposed 5,500-flight-hour compliance time. But the commenter requests that we allow installation of operator-supplied hardware with operator-fabricated gang-nut plates in lieu of the parts specified in the referenced service bulletin. The commenter states that this will facilitate compliance with the proposed AD because operators will not be dependent on parts availability.

We do not agree with the commenter's request. We have discussed the question of parts availability with the manufacturer, and the manufacturer states that there is no problem with availability of the kit needed to complete the requirements of this AD. Therefore, parts availability does not justify allowing operators to install parts other than those specified in the service bulletin. Also, it is not appropriate to address such a request in an AD. We recommend that the commenter apply for approval of an alternative method of compliance (AMOC) and provide specific information about the hardware proposed in the comment. Operators who choose to submit an AMOC request should include data supporting that the proposed alternative hardware will provide an acceptable level of safety. We have not changed the final rule in this regard.

Conclusion

We have carefully reviewed the available data, including the comment received, and determined that air safety and the public interest require adopting the AD as proposed.

Costs of Compliance

This AD affects about 209 airplanes of U.S. registry. The required actions will take about 2 work hours per airplane, at an average labor rate of $65 per work hour. Required parts will cost between $141 and $150 per airplane. Based on these figures, the estimated cost of this AD for U.S. operators is between $56,639 and $58,520, or between $271 and $280 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-04-09 Bombardier, Inc. (Formerly Canadair): Amendment 39-14490. Docket No. FAA-2005-22872; Directorate Identifier 2005-NM-198-AD.

Effective Date

(a) This AD becomes effective March 24, 2006.

Affected ADs

(b) None.

Applicability

(c) This AD applies to the airplanes identified in Table 1 of this AD, certificated in any category.

Table 1.—Applicability
Bombardier models | Serial Nos.
CL-600-2C10 (Regional Jet Series 700, 701, & 702) airplanes | 10003 through 10218 inclusive.
CL-600-2D15 (Regional Jet Series 705) airplanes, CL-600-2D24 (Regional Jet Series 900) airplanes | 15001 through 15047 inclusive.

Unsafe Condition

(d) This AD results from reports of the Camloc fasteners on the sidewall of the center pedestal disengaging and interfering with an inboard rudder pedal. We are issuing this AD to prevent these fasteners from disengaging and interfering with an inboard rudder pedal, which could reduce directional controllability of the airplane.

Compliance

(e) You are responsible for having the actions required by this AD performed within the compliance times specified, unless the actions have already been done.

Replacement of Fasteners

(f) Within 5,500 flight hours after the effective date of this AD, replace, with screws and nut plate assemblies, the Camloc fasteners on the left and right sidewalls of the center pedestal, in accordance with the Accomplishment Instructions of Bombardier Service Bulletin 670BA-25-037, Revision A, dated August 25, 2005.

Actions Accomplished Previously

(g) Replacing fasteners before the effective date of this AD in accordance with the Accomplishment Instructions of Bombardier Service Bulletin 670BA-25-037, dated June 23, 2005, is acceptable for compliance with the requirements of paragraph (f) of this AD.

Alternative Methods of Compliance (AMOCs)

(h)(1) The Manager, New York Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) Canadian airworthiness directive CF-2005-31, dated August 17, 2005, also addresses the subject of this AD.

Material Incorporated by Reference

(j) You must use Bombardier Service Bulletin 670BA-25-037, Revision A, dated August 25, 2005, to perform the actions that are required by this AD, unless the AD specifies otherwise. The Director of the Federal Register approved the incorporation by reference of this document in accordance with 5 U.S.C. 552(a) and 1 CFR part 51. Contact Bombardier, Inc., Canadair, Aerospace Group, P.O. Box 6087, Station Centre-ville, Montreal, Quebec H3C 3G9, Canada, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on February 6, 2006.
Kalene C. Yanamura,
Acting Manager, Transport Airplane Directorate, Aircraft Certification Service.

[FR Doc. 06-1406 Filed 2-16-06; 8:45 am]

BILLING CODE 4910-13-P